SMALL BUSINESS ADMINISTRATION

Military Reservist Economic Injury Disaster Loans Interest Rate for Fourth Quarter FY 2017

The Small Business Administration publishes an interest rate for Military Reservist Economic Injury Disaster Loans (13 CFR 123.512) on a quarterly basis. The rate will be 3.305 for loans approved on or after July 14, 2017.

James E. Rivera,
Associate Administrator for Disaster Assistance.

[FR Doc. 2017-15988 Filed 7-28-17; 8:45 am]

BILLING CODE P